DEPARTMENT OF THE INTERIOR

Bureau of Land Management

[CA-930-1430-PN-252Z; CACA 42646]

Notice of Realty Action: Conveyance of Mineral Interests in California; Correction

AGENCY: Bureau of Land Management, Interior.

ACTION: Correction.

SUMMARY: In the Federal Register notice document 01-8406 beginning on page 18109 in the issue of Thursday, April 5, 2003, make the following correction: On page 18109 in the third column the legal description reads, “sec. 6, SE1/4NW1/4, SW1/4NE1/4”. This should read “All the coal and other minerals within that portion of Parcel 2 Map 2415 recorded October 24, 1985 in the Office of the County Recorder, County of Madera, State of California, in Book 31, of Maps, at Page 173, that is within a portion of Lot 3 of Section 6, T. 9S., R. 22 E., Mount Diablo Base and Meridian, according to the official plat thereof, as reserved in patent number 1096001 dated March 11, 1938, together with the right to prospect for, mine, and remove the same pursuant to the provisions and limitations of the Act of December 29, 1916 (39 Stat., 862).

Containing 25 acres, more or less.”

Dated: October 10, 2007.
Robert M. Doyel,
Chief, Branch of Lands Management.

[FR Doc. E7-20548 Filed 10-17-07; 8:45 am]

BILLING CODE 4310-40-P